DEPARTMENT OF THE TREASURY

Office of the General Counsel

Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Gary B. Wilcox, Deputy Chief Counsel (Technical).

2. Deborah A. Butler, Associate Chief Counsel (Procurement and Administration).

3. Mark Kaizen, Associate Chief Counsel (General Legal Services).

4. Nancy J. Marks, Deputy Associate Chief Counsel (Tax Exempt Government Entities).

5. Cynthia J. Mattson, Division Counsel (Large and Mid-Size Business).

6. Gary A. Benford, Area Counsel (Small Business/Self-Employed), Area 6—Dallas.

This publication is required by 5 U.S.C. 4314(c)(4).

Dated: August 29, 2003.
Richard Mihelcic,
Associate Chief Counsel (Finance and Management).

[FR Doc. 03-22516 Filed 9-3-03; 8:45 am]

BILLING CODE 4830-01-P